DEPARTMENT OF HEALTH AND HUMAN SERVICES

National Institutes of Health

Proposed Collection; 60-Day Comment Request; Application To Participate in the National Institutes of Health Technical Assistance Programs: Commercialization Accelerator Program (CAP)

AGENCY: National Institutes of Health, HHS.

ACTION: Notice.

SUMMARY: In compliance with the requirement of the Paperwork Reduction Act of 1995 to provide opportunity for public comment on proposed data collection projects, the National Institutes of Health will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: J.P. Kim, NIH SBIR/STTR Program Manager & NIH Extramural Data Sharing Policy Officer, Small Business Innovation Research (SBIR) and Small Business Technology Transfer (STTR) Program Office, Office of Extramural Programs (OEP)/Office of Extramural Research (OER), Office of the Director (OD)/National Institutes of Health (NIH), 6705 Rockledge Drive, Suite 350, Bethesda, Maryland 20892-7963 or call non-toll-free number (301) 435-0189 or Email your request, including your address to: jpkim@nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Application to Participate in the National Institutes of Health Technical Assistance Programs: Commercialization Accelerator Program (CAP)—0925—Existing Without OMB Approval.

Need and Use of Information Collection: The purpose of this application is to collect information to be used internally by the NIH SBIR/STTR staff to identify and select small businesses that would most benefit if selected as participants in the NIH Commercialization Accelerator Program (CAP). The data will not be used to formulate or change policies. Rather, it will be used to enable NIH SBIR/STTR staff to be responsive to its constituents by offering commercialization training to meet the goals of the Phase II small business NIH awardees. The form will be online for any potential CAP applicant companies and completed electronically.

OMB approval is requested for 3 years. There are no costs to respondents other than their time. The total estimated annualized burden hours are 150.

Estimated Annualized Burden Hours
Type of respondent | Number of respondents | Number of responses per respondent | Average time per response (in hours) | Total annual burden hour
SBIR Phase II Awardees | 100 | 1 | 90/60 | 150
Total | 100 | 100 |  | 150

Dated: June 9, 2017.
Lawrence A. Tabak,
Principal Deputy Director, National Institutes of Health.

[FR Doc. 2017-12440 Filed 6-14-17; 8:45 am]

BILLING CODE 4140-01-P